FEDERAL MARITIME COMMISSION

Ocean Transportation Intermediary License Reissuance

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR part 515.

License No. | Name/address | Date reissued
004027F | U.S. Airfreight, Inc., 2624 N.W. 112th Avenue, Miami, FL 33172 | October 28, 2010.
017330N | Geomarine Shipping Inc., 27 Cambridge Road, East Rockaway, NY 11518 | November 10, 2010.
018429F | AB Shipping, Inc., 5428 El Monte Avenue, Temple City, CA 91780 | November 15, 2010.
018525N | Valu Freight Consolidators, Inc., 1325 NW 21th Street, Miami, FL 33142 | November 19, 2010.
020258NF | Sistemas Aereos LLC, 11027 NW 122nd Street, Medley, FL 33178 | November 19, 2010.
020264N | Empire Shipping Co. Inc., 100 East Peddie Street, Newark, NJ 07114 | November 6, 2010.
021534N | Martinez Cargo Express, Corp., 8026 Sunport Drive, Units 301-302, Orlando, FL 32809 | November 19, 2010.
021694N | Wheelsky Logistics, Inc., 14515 East Don Julian Road, City of Industry, CA 91746 | November 19, 2010.
022244N | Golden Freight, Inc., dba Saigon Express, 510 Parrott Street, Suite 2, San Jose, CA 95112 | November 15, 2010.

Sandra L. Kusumoto,
Director, Bureau of Certification and Licensing.

[FR Doc. 2011-576 Filed 1-12-11; 8:45 am]

BILLING CODE 6730-01-P